DEPARTMENT OF JUSTICE

Notice of Lodging of Proposed Consent Decree Under the Clean Air Act

On January 17, 2025, the Department of Justice lodged a proposed consent decree with the United States District Court for the District of New Mexico in the lawsuit titled United States of America and New Mexico Environment Department v. HF Sinclair Navajo Refining LLC, Civil Action No. 1:25-cv-00054.

In this action, the United States, on behalf of the U.S. Environmental Protection Agency, and the New Mexico Environment Department filed a complaint alleging that HF Sinclair Navajo Refining, LLC (“Defendant”) violated provisions of the Clean Air Act (“CAA”), the New Mexico Air Quality Control Act, and their implementing regulations, including emissions and performance standards related to: refinery fenceline emissions, benzene waste, storage tanks, flaring, and equipment leaks, resulting in excess volatile organic compounds (“VOC”) and hazardous air pollutants (“HAP”) at its Artesia, New Mexico refinery (“Refinery”). The complaint seeks an Order enjoining Defendant from further violating applicable requirements and requiring Defendant to remedy, mitigate, and offset the harm to public health and the environment caused by the violations and to pay a civil penalty.

Under the proposed settlement, Defendant agrees to pay a civil penalty of $35,000,000 (of which $17,500,000 is to be paid to the United States and $17,500,000 is to be paid to the State of New Mexico).

In addition, Defendant will implement an injunctive relief program that includes: installation of a flare gas recovery system, wastewater system capital projects, storage tank capital projects, and enhanced monitoring of equipment to reduce to reduce VOC and HAP emissions.

The publication of this notice opens a period for public comment on the proposed consent decree. Comments should be addressed to the Assistant Attorney General, Environment and Natural Resources Division, and should refer to United States and New Mexico Environment Department v. HF Sinclair Navajo Refining LLC, D.J. Ref. No. 90-5-2-1-2228/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed consent decree may be examined and downloaded at this Justice Department website: http://www.justice.gov/enrd/consent-decrees. If you require assistance accessing the proposed consent decree, you may request assistance by email or by mail to the addresses provided above for submitting comments.

Thomas Carroll,
Assistant Section Chief, Environmental Enforcement Section, Environment and Natural Resources Division.

[FR Doc. 2025-01652 Filed 1-23-25; 8:45 am]

BILLING CODE 4410-15-P